DEPARTMENT OF TRANSPORTATION

Federal Aviation Administration

14 CFR Part 39

[Docket No. 99-CE-86-AD]

RIN 2120-AA64

Airworthiness Directives; Aerostar Aircraft Corporation Models PA-60-601 (Aerostar 601), PA-60-601P (Aerostar 601P), PA-60-602P (Aerostar 602P), and PA-60-700P (Aerostar 700P) Airplanes

AGENCY: Federal Aviation Administration, DOT.

ACTION: Notice of proposed rulemaking (NPRM).

SUMMARY: This document proposes to adopt a new airworthiness directive (AD) that would apply to certain Aerostar Aircraft Corporation (Aerostar) Models 601, 601P, 602P, and 700P airplanes. The proposed AD would require you to replace Roto-Master and Rajay scavenge pumps with Aerostar scavenge pumps. The proposed action is the result of failures of the existing Roto-Master and Rajay scavenge pump found during regular maintenance inspections. The actions specified by this proposed AD are intended to prevent failure of the oil scavenge pumps, which could result in loss of engine oil and possible loss of engine power.

DATES: The Federal Aviation Administration (FAA) must receive any comments on this proposed rule on or before January 2, 2002.

ADDRESSES: Submit comments to the Federal Aviation Administration (FAA), Central Region, Office of the Regional Counsel, Attention: Rules Docket No. 99-CE-86-AD, 901 Locust, Room 506, Kansas City, Missouri 64106. You may look at comments at this location between 8 a.m. and 4 p.m., Monday through Friday, except Federal holidays.

You may get service information that applies to this proposed AD from Aerostar Aircraft Corporation, 10555 Airport Drive, Coeur d'Alene Airport, Hayden Lake, Idaho 83835-8742; Telephone: (208) 762-0338; facsimile: (208) 762-8349. You may also view this information at the Rules Docket at the address above.

FOR FURTHER INFORMATION CONTACT: Richard Simonson, Aerospace Engineer, FAA, Seattle Aircraft Certification Office, 1601 Lind Avenue, SW., Renton, Washington 98055; telephone: (425) 227-2597; facsimile: (425) 227-1181.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments Docket No. 99-CE-86-AD.” We will date stamp and mail the postcard back to you.

Discussion

What Events Have Caused This Proposed AD?

The FAA has received several reports of excessive internal pump wear found during normal maintenance inspections on Aerostar Models 601, 601P, 602P, and 700P airplanes. Analysis of these incidents reveals that inadequate retention of the existing oil scavenge pump rotor allows the rotor to machine its way through the end plate.

What Are the Consequences if the Condition Is Not Corrected?

This condition, if not corrected, could result in loss of engine oil and possible loss of engine power.

Is There Service Information That Applies to This Subject?

Aerostar has issued Mandatory Service Bulletin SB SB600-131A, dated January 10, 1998.

What Are the Provisions of This Service Bulletin?

The service bulletin describes procedures for replacing the Roto-Master scavenge pumps, part numbers 101633-01 or -02; and Rajay scavenge pumps, part numbers RJ1025-1 or -2; with Aerostar scavenge pumps, part number 300110-001 or -002.

The FAA's Determination and an Explanation of the Provisions of the Proposed AD

What Has FAA Decided?

After examining the circumstances and reviewing all available information related to the incidents, we have determined that:

—The unsafe condition referenced in this document exists or could develop on other Aerostar Models 601, 601P, 602P, and 700P airplanes of the same type design;

—These airplanes should have the actions specified in the above service bulletin incorporated; and

—The FAA should take AD action to correct this unsafe condition.

What Would This Proposed AD Require?

This proposed AD would require you to replace the Roto-Master or Rajay scavenge pumps with Aerostar scavenge pumps, if not already performed.

What Are the Differences Between the Service Bulletin and the Proposed AD?

Aerostar specifies in the service information that you replace the scavenge pumps within the next 50 hours time-in-service (TIS) or at the next annual inspection, whichever comes first. We propose a requirement that you replace the scavenge pumps within the next 50 hours TIS after the effective date of the proposed AD. We cannot enforce a compliance time of “at the next annual inspection.” We believe that 50 hours TIS will give the owners/operators of the affected airplanes enough time to have the proposed actions done without compromising the safety of the airplanes. This will allow the owners/operators to work this proposed replacement into regularly scheduled maintenance.

Cost Impact

How Many Airplanes Would This Proposed AD Impact?

We estimate the proposed AD would affect 650 airplanes in the U.S. registry.

What Would Be the Cost Impact of This Proposed AD on Owners/Operators of the Affected Airplanes?

We estimate that it would take about 8 workhours to do the proposed installation of both left and right engine scavenge pumps, at an average labor rate of $60 an hour. We estimate parts costs for each airplane at $4,750. Based on the cost factors presented above, we estimate the total cost impact of the proposed installation on U.S. operators is $3,399,500, or $5,230 for each airplane.

Regulatory Flexibility Determination and Analysis

What Are the Requirements of the Regulatory Flexibility Act?

The Regulatory Flexibility Act of 1980 was enacted by Congress to assure that small entities are not unnecessarily or disproportionately burdened by government regulations. This Act establishes “as principle of regulatory issuance that agencies shall endeavor, consistent with the objectives of the rule and of applicable statutes, to fit regulatory and informational requirements to the scale of the businesses, organizations, and governmental jurisdictions subject to regulation.” To achieve this principle, the Act requires agencies to solicit and consider flexible regulatory proposals and to explain the rationale for their actions. The Act covers a wide range of small entities, including small businesses, not-for-profit organizations, and small governmental jurisdictions.

Agencies must perform a review to determine whether a proposed or final rule will have a significant economic impact on a substantial number of small entities. If the determination is that the rule will, the Agency must prepare a regulatory flexibility analysis as described in the RFA.

However, if an agency determines that a proposed or final rule is not expected to have a significant economic impact on a substantial number of small entities, section 605(b) of the RFA provides that the head of the agency may so certify and a regulatory flexibility analysis is not required. The certification must include a statement providing the factual basis for this determination, and the reasoning should be clear.

What Is FAA's Determination?

The FAA has determined that this proposed AD could have a significant economic impact on a substantial number of small entities. However, we have determined that we should continue with this proposed action in order to address the unsafe condition and ensure aviation safety.

You may obtain a copy of the complete Regulatory Flexibility Analysis (entitled “Initial Regulatory Flexibility Analysis”) that was prepared for this proposed AD from the Docket file at the location listed under the ADDRESSES section of this document.

Regulatory Impact

Would This Proposed AD Impact Relations Between Federal and State Governments?

The proposed regulations would not have substantial direct effects on the States, on the relationship between the national government and the States, or on the distribution of power and responsibilities among the various levels of government. We have determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, could have a significant economic impact, positive or negative, on a substantial number of small entities under the criteria of the Regulatory Flexibility Act. You may obtain a copy of the complete Regulatory Flexibility Analysis (entitled “Initial Regulatory Flexibility Analysis”) that was prepared for this proposed AD from the Docket file at the location listed under the ADDRESSES section of this document.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Aerostar Aircraft Corporation: Docket No. 99-CE-86-AD.

(a) What airplanes are affected by this AD? This AD affects the following airplanes, all serial numbers, certificated in any category: Models PA-60-601 (Aerostar 601), PA-60-601P (Aerostar 601P), PA-60-602P (Aerostar 602P), and PA-60-700P (Aerostar 700P) airplanes.

(b) Who must comply with this AD? Anyone who wishes to operate any of the above airplanes on the U.S. Register must comply with this AD.

(c) What problem does this AD address? The actions specified by this AD are intended to replace faulty oil scavenge pumps with pumps of improved design. The faulty oil scavenge pumps have rotors that machine through the end plate, resulting in loss of engine oil and possible loss of engine power.

(d) What must I do to address this problem? To address this problem, you must do the following actions:

Actions | Compliance times | Procedures
(1) Replace the Roto-Master scavenge pumps, part numbers 101633-01 or -02; and Rajay scavenge umps, part numbers RJ1025-1 or -2; with Aerostar part number 300110-001 or -002 | Within the next 50 hours time-in-service after the effective date of this AD, unless already performed | Do this replacement following the INSTRUCTIONS paragraph of Aerostar Mandatory Service Bulletin SB600-131A, January 10, 1998, and the Aerostar Maintenance Manual.
(2) Do not install, on any affected airplane, Roto-Master scavenge pumps, part numbers 101633-01 or -02; and Rajay scavenge pumps, part numbers RJ1025-1 or -2 | As of the effective date of this AD | Not applicable.

(e) Can I comply with this AD in any other way? You may use an alternative method of compliance or adjust the compliance time if:

(1) Your alternative method of compliance provides an equivalent level of safety; and

(2) The Manager, Seattle Aircraft Certification Office (ACO), approves your alternative. Send your request through an FAA Principal Maintenance Inspector, who may add comments and then send it to the Manager, Seattle ACO, 1601 Lind Avenue, SW., Renton, Washington 98055.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? Contact Richard Simonson, Aerospace Engineer, FAA, Seattle Aircraft Certification Office, 1601 Lind Avenue, SW., Renton, Washington 98055-4065; telephone: (425) 227-2597; facsimile: (425) 227-1181.

(g) What if I need to fly the airplane to another location to comply with this AD? The FAA can issue a special flight permit under sections 21.197 and 21.199 of the Federal Aviation Regulations (14 CFR 21.197 and 21.199) to operate your airplane to a location where you can do the requirements of this AD.

(h) How do I get copies of the documents referenced in this AD? You may get the service information referenced in the AD from Aerostar Aircraft Corporation, 10555 Airport Drive, Coeur d'Alene Airport, Hayden Lake, Idaho 83835-8742; Telephone: (208) 762-0338; facsimile: (208) 762-8349. You may read this document at FAA, Central Region, Office of the Regional Counsel, 901 Locust, Room 506, Kansas City, Missouri 64106.

Issued in Kansas City, Missouri, on October 16, 2001.
Michael Gallagher,
Manager, Small Airplane Directorate, Aircraft Certification Service.

[FR Doc. 01-26714 Filed 10-23-01; 8:45 am]

BILLING CODE 4910-13-P